DEPARTMENT OF TRANSPORTATION

Federal Aviation Administration

Notice of FAA Flight Standards Continuous Airworthiness Maintenance Division, Air Transportation Division and General Aviation and Commercial Division, Guidance Documents Internet Web Site Availability To Request Comments; Flight Standards Guidance Documents Internet Web Site

AGENCY: Federal Aviation Administration (FAA), DOT.

ACTION: Notice.

SUMMARY: This notice announces the availability of proposed Flight Standards policy documents. These documents provide information and guidance regarding prospective Airworthiness and Operations procedures to FAA Aviation Safety Inspectors. The public is invited to provide comments on these documents published on the FAA's interned web site.

FOR FURTHER INFORMATION CONTACT: Connie Streeter, Flight Standards; Air Transportation Division, at (202) 267-3232, Gwen Hargrove, Continuous Airworthiness Maintenance Division, at (202) 267-3440, and Susan Gardner, General Aviation and Commercial Division, at (202) 267-3437, Federal Aviation Administration, 800 Independence Avenue, SW., Washington, DC 20591.

SUPPLEMENTARY INFORMATION:

Discussion

Copies of draft guidance documents may be obtained by accessing the FAA Flight Standards Air Transportation Division, webpage at http://www.opspecs.com. Interested parties are invited to submit comments on proposed guidance documents. Comments must specifically identify the policy document, and comments can be submitted to the address specified above. The appropriate FAA Flight Standards Division before issuing the final document will consider all communications received on or before the closing date for comments. The guidance documents are bulletin amendments to FAA Flight Standards Orders 8300.10 and 8700.10 and 8700.10 Inspector's Handbook. These guidance bulletins serve as instructions to the FAA Aviation Safety Inspector's in the performance of their duties. Safety critical guidance bulletins may not be posted on the webpage due to urgent safety issues. Comments to these documents must be received no later than the 10th day from the posting of the document on the Internet Web Site.

Issued in Washington, D.C. on August 31, 2000.
L. Nicholas Lacey,
Director, Flight Standards Service.

[FR Doc. 00-24150 Filed 9-19-00; 8:45 am]

BILLING CODE 4910-13-M